SECURITIES AND EXCHANGE COMMISSION

[Release No. IC-24992]

Notice of Applications for Deregistration Under Section 8(f) of the Investment Company Act of 1940

May 24, 2001.

The following is a notice of a applications for deregistration under section 8(f) of the Investment Company Act of 1940 for the month of May, 2001. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on June 19, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Nuveen Tax Exempt Unit Trust Series 3—National Trust 3 [File No. 811-1109]; Nuveen Tax Exempt Unit Trust Series 4 [File No. 811-1110]; Nuveen Tax Exempt Unit Trust Series 5 [File No. 811-1230]; Nuveen Tax Exempt Unit Trust Series 6 [File No. 811-1238]; Nuveen Tax Exempt Unit Trust Series 7 [File No. 811-1260]; Nuveen Tax Exempt Unit Trust Series 8 [File No. 811-1291]; Nuveen Tax Exempt Unit Trust Series 16 [File No. 811-1547]; Nuveen Tax Exempt Unit Trust Series 9 [File No. 811-1306]; Nuveen Tax Exempt Unit Trust Series 12 [File No. 811-1395]; Nuveen Tax Exempt Unit Trust Series 13 [File No. 811-1439]; Nuveen Tax Exempt Unit Trust Series 14 [File No. 811-1480]; Nuveen Tax Exempt Unit Trust Intermediate Series 1 [File No. 811-2664]

Summary: Each applicant, a unit investment trust, seeks an order declaring that it has ceased to be an investment company. Between April 15, 1991, and December 15, 1991, each applicant made a liquidating distribution to its shareholders based on net asset value. Applicants incurred no expenses in connection with the liquidations.

Filing Date; The applications were filed on April 18, 2001.

Applicants' Address: 333 West Wacker Drive, Chicago, IL 60606.

Nuveen Tax Exempt Unit Trust Series 23 [File No. 811-1962]; Nuveen Tax Exempt Unit Trust Series 24 [File No. 811-2022]; Nuveen Tax Exempt Unit Trust Series 26 [File No. 811-2049]

Summary: Each applicant, a unit investment trust, seeks an order declaring that it has ceased to be an investment company., On July 15, 1991, October 15, 1991, and August 15, 1992, respectively, each applicant made a liquidating distribution to its shareholders based on net asset value. Applicants incurred no expenses in connection with the liquidations.

Filing Date: The applications were filed on April 19, 2001.

Applicants' Address: 333 West Wacker Drive, Chicago, IL 60606.

Nuveen Tax Exempt Unit Trust Series 28 [File No. 811-2068]; Nuveen Tax Exempt Unit Trust Series 21 [File No. 811-1839]; Nuveen Tax Exempt Unit Trust Series 18 [File No. 811-1654]

Summary: Each applicant, a unit investment trust, seeks an order declaring that it has ceased to be an investment company. On March 15, 1996, August 15, 1996, and August 15, 1998, respectively, each applicant made a liquidating distribution to its shareholders based on net asset value. Applicants incurred no expenses in connection with the liquidations.

Filing Date: The applications were filed on April 19, 2001.

Applicants' Address: 333 West Wacker Drive, Chicago, IL 60606.

Nuveen Tax Exempt Unit Trust Series 36 National Trust 36 [File No. 811-2179]; Nuveen Tax Exempt Unit Trust Series 40 National Trust 40 [File No. 811-2244

Summary: Each applicant, a unit investment trust, seeks an order declaring that it has ceased to be an investment company. On November 15, 1994, each applicant made a liquidating distribution to its shareholders based on net asset value. Applicants incurred no expenses in connection with the liquidations.

Filing Date: The applications were filed on April 19, 2001.

Applicants' Address: 333 West Wacker Drive, Chicago, IL 60606.

Nuveen Tax Exempt Unit Trust Series 37 National Trust 37 [File No. 811-2198]; Nuveen Tax Exempt Unit Trust Series 27 [File No. 811-2059]; Nuveen Tax Exempt Unit Trust Series 17 [File No. 811-1575]

Summary: Each applicant, a unit investment trust, seeks an order declaring that it has ceased to be an investment company. On February 15, 1992, each applicant made a liquidating distribution to its shareholders based on net asset value. Applicants incurred no expenses in connection with the liquidations.

Filing Date: The applications were filed on April 19, 2001.

Applicants' Address: 333 West Wacker Drive, Chicago, IL 60606.

Nuveen Tax Exempt Unit Trust Series 11 [File No. 811-1378]; Nuveen Tax Exempt Unit Trust Series 10 [File No. 811-1328]

Summary: Each applicant, a unit investment trust, seeks an order declaring that it has ceased to be an investment company. On February 15, 1992, and September 15, 1992, respectively, each applicant made a liquidating distribution to its shareholders based on net asset value. Applicants incurred no expenses in connection with the liquidations.

Filing Date: The applications were filed on April 18, 2001.

Applicants' Address: 333 West Wacker Drive, Chicago, IL 60606.

Nuveen Tax Exempt Unit Trust Series 31 National Trust 31 [File No. 811-2102]; Nuveen Tax Exempt Unit Trust Series 29 National Trust 29 [File No. 811-2088]

Summary: Each applicant, a unit investment trust, seeks an order declaring that it has ceased to be an investment company. On September 15, 1995, and September 15, 1997, respectively, each applicant made a liquidating distribution to its shareholders based on net asset value. Applicants incurred no expenses in connection with the liquidations.

Filing Date: The applications were filed on April 19, 2001.

Applicants' Address: 333 West Wacher Drive, Chicago, IL 60606.

Nuveen Tax Exempt Unit Trust Series 22 [File No. 811-1908]; Nuveen Tax Exempt Unit Trust Series 25 [File No. 811-2044]; Nuveen Tax Exempt Unit Trust Series 33 National Trust 33 [File No. 811-2141]

Summary: Each applicant, a unit investment trust, seeks an order declaring that it has ceased to be an investment company. On March 15, 1993, September 15, 1993, and May 15, 1994, respectively, each applicant made a liquidating distribution to its shareholders based on net asset value. Applicants incurred no expenses in connection with the liquidations.

Filing Date: The applications were filed on April 19, 2001.

Applicants' Address: 333 West Wacker Drive, Chicago, IL 60606.

American General Series Portfolio Company 2 [File No. 811-8875]

Summary: Applicant seeks an order declaring that it has ceased to be an investment company. On July 7, 2000, applicant transferred its assets to North American Funds, based on net asset value. Expenses of $1,326,467 incurred in connection with the reorganization were paid by American General Corporation, the parent of applicant's investment adviser.

Filing Date: The application was filed on March 22, 2001.

Applicant's Address: 2929 Allen Parkway, Houston, TX 77019.

Pennsylvania Daily Municipal Income Fund [File No. 811-6681]

Summary: Applicant seeks an order declaring that is has ceased to be an investment company. On February 14, 2001, applicant made a liquidating distribution to its sole shareholder based on net asset value. Expenses of $3,000 incurred in connection with the liquidation were paid by Reich & Tang Asset Management LLC, applicant's investment adviser.

Filing Date: The application was filed on May 9, 2001.

Applicant's Address: 600 Fifth Avenue, New York, NY 10020.

Firstar Select Funds [File No. 811-8155]

Summary: Applicant seeks an order declaring that it has ceased to be an investment company. On November 23, 2000, applicant transferred its assets to Firstar REIT Fund, based on net asset value. Expenses of $130,820 incurred in connection with the reorganization were paid by Firstar Investment Research & Management Company, LLC.

Filing Date: The application was filed on April 2, 2001.

Applicant's Address: 431 North Pennsylvania Street, Indianapolis, IN 46204.

Cappiello-Rushmore Trust [File No. 811-6601]

Summary: Applicant seeks an order declaring that it has ceased to be an investment company. On April 12, 2001, applicant made a liquidating distribution to its shareholders based on net asset value. Expenses of $63,783 incurred in connection with the liquidation were paid by applicant.

Filing Date: The application was filed on April 20, 2001.

Applicant's Address: 4922 Fairmont Avenue, Bethesda, MD 20814.

The Buttonwood Funds, Inc. [File No. 811-4702]

Summary: Applicant seeks an order declaring that it has ceased to be an investment company. On March 2, 2001, applicant made a final liquidating distribution to its shareholders based on net asset value. Expenses of $10,760 incurred in connection with the liquidation were shared equally by Independence Capital Management, Inc., applicant's investment adviser and Janney Montgomery Scott LLC, applicant's distributor.

Filing Date: The application was filed on April 18, 2001.

Applicant's Address: Two Bala Cynwyd Plaza, Bala Cynwyd, PA 19004.

Gabelli Income Series Funds, Inc. [File No. 811-8866]

Summary: Applicant seeks an order declaring that it has ceased to be an investment company. Applicant has never made a public offering of its securities and does not propose to make a public offering or engage in business of any kind.

Filing Dates: The application was filed on March 27, 2001, and amended on May 2, 2001.

Applicant's Address: One Corporate Center, Rye, NY 10580-1434.

Tristar Large Cap Stock Fund [File No. 811-9723]

Summary: Applicant seeks an order declaring that is has ceased to be an investment company. On February 15, 2001, applicant made a liquidating distribution to its shareholders based on net asset value. Expenses of approximately $238 incurred in connection with the liquidation were paid by Tristar Capital Management, Corp., applicant's investment adviser.

Filing Dates: The applicant was filed on April 3, 2001, and amended on May 11, 2001.

Applicant's Address: 13605 Crestway Dr., Brook Park, OH 44142.

SM&R Growth Fund, Inc. [File No. 811-623] SM&R Equity Income Fund, Inc. [File No. 811-1916] SM&R Balanced Fund, Inc. [File No. 811-2818]

Summary: Each applicant seeks an order declaring that it has ceased to be an investment company. On December 31, 2000, each applicant transferred its assets to a corresponding series of SM&R Investments, Inc., based on net asset value. Expenses of $65,888, $42,323 and $29,355, respectively, were incurred in connection with the reorganizations and were paid by Securities Management and Research, Inc., each applicant's investment adviser.

Filing Dates: The applications were filed on February 28, 2001, and amended on April 20, 2001 and April 27, 2001.

Applicant's Address: Securities Management and Research, Inc., 2450 South Shore Boulevard, Suite 400, League City, Texas 77573.

StockJungle.com Trust [File No. 811-9403]

Summary: Applicant seeks an order declaring that it has ceased to be an investment company. On November 7, 2000, applicant transferred its assets to three series of the Trust for Investment Management based on net asset value. Expenses of $38,000 incurred in connection with the reorganization were paid by StockJungle.com Advisors, Inc., applicant's investment adviser.

Filing Dates: The application was filed on March 15, 2001, and amended on May 1, 2001.

Applicant's Address: 5750 Wilshire Boulevard, Suite 560, Los Angeles, CA 90036.

Allied Owners Action Fund Inc. [File No. 811-9551]

Summary: Applicant seeks an order declaring that it has ceased to be an investment company. On March 26, 2001, applicant made a liquidating distributing to its shareholders based on net asset value. Applicant incurred no expenses in connection with the liquidation.

Filing Dates: The application was filed on April 20, 2001, and amended on May 17, 2001.

Applicant's Address: 215 W 91st #112, New York, NY 10024.

For the Commission, by the Division of Investment Management, pursuant to delegated authority.
Margaret H. McFarland,
Deputy Secretary.

[FR Doc. 01-13632 Filed 5-30-01; 8:45 am]

BILLING CODE 8010-01-M